DEPARTMENT OF ENERGY

Federal Energy Regulatory Commission

Notice of Staff Attendance at the Southwest Power Pool, Regional State Committee, Members' Committee and Board of Directors' Meetings

The Federal Energy Regulatory Commission (Commission) hereby gives notice that members of its staff may attend the meetings of the Southwest Power Pool, Inc. Regional State Committee (RSC), Human Resource Committee (HR), Finance Committee (FC), Members' Committee and Board of Directors as noted below. Their attendance is part of the Commission's ongoing outreach efforts.

The meetings will be held at the Doubletree Warren Place, 6110 South Yale Place, Tulsa, OK 74136. The phone number is (918) 495-1000. All meetings are Central Time.

SPP RSC

April 29, 2019 (8:00 a.m.-4:30 p.m. CDT)

SPP HR

April 29, 2019 (8:00 a.m.-1:00 p.m. CDT)

SPP FC

April 29, 2019 (8:00 a.m.-11:30 p.m. CDT)

SPP Members/Board of Directors

April 30, 2019 (8:00 a.m.-2:00 p.m. CDT)

The discussions may address matters at issue in the following proceedings:

Docket No. ER09-548, Kansas Corporation Commission

Docket No. ER14-2850, Southwest Power Pool, Inc.

Docket No. ER14-2851, Southwest Power Pool, Inc.

Docket No. ER15-2028, Southwest Power Pool, Inc.

Docket No. ER15-2115, Southwest Power Pool, Inc.

Docket No. ER15-2594, South Central MCN LLC

Docket No. EL16-91, Southwest Power Pool, Inc.

Docket No. EL16-108, Tilton Energy v. Midcontinent Independent System Operator, Inc.

Docket No. ER16-204, Southwest Power Pool, Inc.

Docket No. ER16-505, GridLiance High Plains LLC

Docket No. ER16-1341, Southwest Power Pool, Inc.

Docket No. RM17-8, Reform of Generator Interconnection Procedures and Agreements

Docket No. EL17-21, Kansas Electric Co. v. Southwest Power Pool, Inc.

Docket No. EL17-89, American Electric Power Service Corporation v. Midcontinent Independent System Operator, Inc., et al.

Docket No. EL17-92, East Texas Electric Cooperative

Docket No. ER17-953, South Central MCN LLC

Docket No. ER17-1568, Southwest Power Pool, Inc.

Docket No. AD18-8, Reform of Affected System Coordination in the Generator Interconnection Process

Docket No. EL18-9, Xcel Energy Services, Inc. v. Southwest Power Pool, Inc.

Docket No. EL18-19, Southwest Power Pool, Inc.

Docket No. EL18-26, EDF Renewable Energy, Inc. v. Midcontinent Independent System Operator, Inc., Southwest Power Pool, Inc., and PJM Interconnection, L.L.C.

Docket No. EL18-35, Southwest Power Pool, Inc.

Docket No. EL18-58, Oklahoma Municipal Power Authority v. Oklahoma Gas and Electric Co.

Docket No. EL18-194, Nebraska Public Power District v. Tri-State Generation and Transmission Association, Inc. and Southwest Power Pool, Inc.

Docket No. EL19-62-000, City Utilities of Springfield, Missouri v. Southwest Power Pool, Inc.

Docket No. ER18-99, Southwest Power Pool, Inc.

Docket No. ER18-194, Southwest Power Pool, Inc.

Docket No. ER18-195, Southwest Power Pool, Inc.

Docket No. ER18-939, Southwest Power Pool, Inc.

Docket No. ER18-1267, South Central MCN LLC

Docket No. ER18-1702, Southwest Power Pool, Inc.

Docket No. ER18-1854, Southwest Power Pool, Inc.

Docket No. ER18-2030, Southwest Power Pool, Inc.

Docket No. ER18-2058, Southwest Power Pool, Inc.

Docket No. ER18-2318, Southwest Power Pool, Inc.

Docket No. ER18-2358, Southwest Power Pool, Inc.

Docket No. ER18-2404, Southwest Power Pool, Inc.

Docket No. ER19-261, Southwest Power Pool, Inc.

Docket No. ER19-356, Southwest Power Pool, Inc.

Docket No. ER19-456, Southwest Power Pool, Inc.

Docket No. ER19-460, Southwest Power Pool, Inc.

Docket No. ER19-477, Southwest Power Pool, Inc.

Docket No. ER19-1039, Southwest Power Pool, Inc.

Docket No. ER19-1111, Southwest Power Pool, Inc.

Docket No. ER19-1114, Southwest Power Pool, Inc.

Docket No. ER19-1135, Southwest Power Pool, Inc.

Docket No. ER19-1137, Southwest Power Pool, Inc.

Docket No. ER19-1159, Southwest Power Pool, Inc.

Docket No. ER19-1177, Southwest Power Pool, Inc.

Docket No. ER19-1178, Southwest Power Pool, Inc.

Docket No. ER19-1214, Southwestern Electric Power Company

Docket No. ER19-1297, Southwest Power Pool, Inc.

Docket No. ER19-1303, Westar Energy, Inc.

Docket No. ER19-1396, American Electric Power Service Corporation

Docket No. ER19-1446, Southwest Power Pool, Inc.

Docket No. ER19-1460, Southwest Power Pool, Inc.

Docket No. ER19-1497, Southwest Power Pool, Inc.

Docket No. ER19-1520, Sunflower Electric Power Corporation

Docket No. ES19-19, Southwest Power Pool, Inc.

This meeting is open to the public.

For more information, contact Patrick Clarey, Office of Energy Market Regulation, Federal Energy Regulatory Commission at (317) 249-5937 or patrick.clarey@ferc.gov.

Dated: April 16, 2019.
Kimberly D. Bose,
Secretary.

[FR Doc. 2019-08016 Filed 4-19-19; 8:45 am]

BILLING CODE 6717-01-P